BROADCASTING BOARD OF GOVERNORS

Sunshine Act Meeting

DATE AND TIME: Thursday, June 19, 2014, 5:30 p.m. EDT.

PLACE: Office of Cuba Broadcasting, 4201 NW 77th Ave., Miami, FL 33166

STATUS: Closed meeting of the Broadcasting Board of Governors.

MATTERS TO BE CONSIDERED: The members of the Broadcasting Board of Governors (BBG) will meet in a closed session to consider the appointment of personnel in the Office of the Chief Financial Officer. This meeting will be closed to public observation pursuant to 5 U.S.C. 552b(c)(6) in order to protect the privacy interests of personnel involved in the actions under consideration. In accordance with the Government in the Sunshine Act and BBG policies, the meeting will be recorded and a transcript of the proceedings, subject to the redaction of information protected by 5 U.S.C. 552b(c)(6), will be made available to the public. The publicly-releasable transcript will be available for download at www.bbg.gov within 21 days of the date of the meeting.

Information regarding member votes to close the meeting and expected attendees can also be found on the Agency's public Web site.

CONTACT PERSON FOR MORE INFORMATION: Persons interested in obtaining more information should contact Oanh Tran at (202) 203-4545.

Oanh Tran,
Director of Board Operations.

[FR Doc. 2014-14065 Filed 6-13-14; 4:15 pm]

BILLING CODE 8610-01-P